NATIONAL SCIENCE FOUNDATION

Advisory Panel for Integrative Activities, #1373; Notice of Meeting

In accordance with the Federal Advisory Committee Act (Pub. L. 92-463, as amended), the National Science Foundation announces the following meeting.

Name: Ad Hoc Advisory Committee on the Merit Review Process (MRPAC).

Date/Time: July 28, 2011 12 p.m.-4 p.m., EDT.

Place: National Science Foundation, 4201 Wilson Boulevard, Room II-515, Arlington, VA.

Type of Meeting: Open.

Contact Person: Ms. Victoria Fung, National Science Foundation, 4201 Wilson Boulevard, Room II-515, Arlington, VA 22230. E-mail: vfung@nsf.gov. Telephone: (703) 292-8040.

If you plan to attend the meeting, please send an e-mail with your name and affiliation to the individual listed above, by the day before the meeting, so that a visitor badge can be prepared.

Purpose of Meeting: To provide advice on topics related to NSF's merit review process.

Agenda:

• Welcome, introductions and charge to the committee

• Presentation and discussion: The merit review process

• Discussion: Strategy for outreach and engagement

Dated: July 6, 2011.
Susanne Bolton,
Committee Management Officer.

[FR Doc. 2011-17328 Filed 7-8-11; 8:45 am]

BILLING CODE 7555-01-P